DEPARTMENT OF TRANSPORTATION

Federal Transit Administration

Notice of Limitation on Claims Against Proposed Public Transportation Projects

AGENCY: Federal Transit Administration (FTA), DOT.

ACTION: Notice of limitation on claims.

SUMMARY: This notice announces final environmental actions taken by the Federal Transit Administration (FTA) for public transportation projects in Norfolk, Virginia; Nashville, Tennessee; Phoenix, Arizona; San Francisco, California; and Portland, Oregon. The purpose of this notice is to activate the limitation on any claims that may challenge these final FTA environmental actions.

DATES: By this notice, FTA is advising the public of final agency actions subject to 23 U.S.C. 139(l). A claim seeking judicial review of any of the FTA actions announced herein for the listed public transportation projects will be barred unless the claim is filed on or before November 14, 2006. If the Federal law that authorizes judicial review of a claim provides a time period of less than 180 days for filing such claim, then the shorter time period applies.

FOR FURTHER INFORMATION CONTACT: Carl Bausch, Director, Office of Human and Natural Environment, (202) 366-1626. FTA is located at 400 Seventh Street, SW., Washington, DC 20590. Office hours are from 8 a.m. to 4:30 p.m., Monday through Friday, except Federal holidays.

SUPPLEMENTARY INFORMATION: Notice is hereby given that FTA has taken final agency actions by issuing certain approvals for the public transportation projects listed below. The actions on these projects, as well as the laws under which such actions were taken, are described in the documentation issued in connection with the project to comply with the National Environmental Policy Act (NEPA), and in other documents in the FTA administrative record for the project. The final agency environmental decision documents—Records of Decision (RODs) and Findings of No Significant Impact (FONSIs)—for the listed projects are available online at http://www.fta.dot.gov/18087_ENG_HTML.htm or may be obtained by contacting the FTA Regional Office for the urbanized area where the project is located. Contact information for the FTA Regional Offices may be found at http://www.fta.dot.gov/about/offices/4978_ENG_HTML.htm.

This notice applies to all FTA decisions on the listed projects as of the issuance date of this notice and all laws under which such actions were taken, including, but not limited to, the National Environmental Policy Act (NEPA) [42 U.S.C. 4321-4375], section 4(f) of the Department of Transportation Act of 1966 [49 U.S.C. 303], section 106 of the National Historic Preservation Act of 1966 [16 U.S.C. 470f], and the Clean Air Act [42 U.S.C. 7401-7671q].

The projects and actions that are the subject of this notice are:

1. Project name and location: Norfolk Light Rail Transit Project, Norfolk, Virginia. Project sponsor: Hampton Roads Transit. FTA Regional Office: Region III in Philadelphia. Project description: The project is a 7.4-mile light rail transit (LRT) system consisting of an exclusive double-track guideway that generally follows the Norfolk Southern Railroad's South Beach Branch right-of-way, with street-running operations through downtown Norfolk to the Eastern Virginia Medical Center. The project includes 11 LRT stations, a vehicle storage-and-maintenance facility, and park-and-ride lots at four of the LRT stations. Final agency actions: ROD issued April 26, 2006; Section 4(f) Finding; Section 106 Memorandum of Agreement; project-level Air Quality Conformity Determination. Supporting documentation: Final Environmental Impact Statement issued October 28, 2005.

2. Project name and location: Nashville Central Station Project, Nashville, Tennessee. Project sponsor: Nashville Metropolitan Transit Authority. FTA Regional Office: Region IV in Atlanta. Project description: The project involves building a downtown bus transit center and transfer station. Final agency actions: FONSI issued February 6, 2006; project-level Air Quality Conformity Determination. Supporting documentation: Environmental Assessment, issued in June 2005, revised in February 2006.

3. Project name and location: Central Phoenix/East Valley Light-Rail Project, in metropolitan Phoenix, Arizona. Project sponsor: Valley Metro Rail. FTA Regional Office: Region IX in San Francisco. Project description: The project is a 20-mile light rail transit (LRT) line from the vicinity of Phoenix Spectrum Mall, through Tempe, to the East Valley Institute of Technology (EVIT) in Mesa. The LRT line will generally operate at grade on dual tracks in the center or at the side of existing streets, with crossings over the Grand and Tempe Canals and Tempe Town Lake. The project includes 28 stations, a maintenance facility and storage yard for the light rail vehicles, park-and-ride facilities at nine of the stations, off-street bus transfer facilities at five of the stations, and an operations control center. Final agency actions: ROD issued January 24, 2003; Section 4(f) finding; Section 106 Memorandum of Agreement; project-level Air Quality Conformity Determination. Supporting documentation: Final Environmental Impact Statement issued November 1, 2002.

4. Project name and location: Transbay Terminal/Caltrain Downtown Extension/Redevelopment Project in San Francisco, California. Project sponsor: Transbay Joint Powers Authority. FTA Regional Office: Region IX in San Francisco. Project description: The project consists of three major components: a new, multi-modal Transbay Transit Center on the site of the present Transbay Terminal; the extension of Caltrain commuter rail line from its current San Francisco terminus at Fourth and Townsend streets to a new underground station underneath the new Transbay Transit Center; and the establishment of a redevelopment area with related development activities, including transit-oriented development on publicly owned land in the vicinity of the new Transbay Transit Center. Final agency actions: ROD issued February 8, 2005; Section 4(f) finding; Section 106 Memorandum of Agreement; project-level Air Quality Conformity Determination. Supporting documentation: Final Environmental Impact Statement issued April 2, 2004.

5. Project name and location: South Corridor I-205/Portland Mall Light Rail Transit Project. Project sponsors: Portland Metro and Tri-County Metropolitan Transportation District. FTA Regional Office: Region X in Seattle. Project description: The project has two major components: a 6.5-mile light rail transit (LRT) line along I-205 from the Clackamas Town Center to the Gateway Transit Center where it connects to the existing Banfield LRT line; and a 1.8-mile downtown transit mall LRT segment connecting into the existing light rail system at the Steel Bridge. The I-205 segment includes eight new LRT stations and five new park-and-ride lots. The Portland Mall segment adds seven pairs of LRT stations on 5th and 6th Avenues. The project includes the expansion of the Ruby Junction light rail vehicle storage and maintenance facility. Final agency actions: ROD issued February 22, 2005; Section 4(f) Finding; Section 106 Memorandum of Agreement; project-level Air Quality Conformity Determination. Supporting documentation: Final Environmental Impact Statement issued December 17, 2004.

Issued on: May 11, 2006.
Ronald Fisher,
Acting Associate Administrator for Planning and Environment, Washington, DC.

[FR Doc. E6-7527 Filed 5-17-06; 8:45 am]

BILLING CODE 4910-57-P